NATIONAL WOMEN'S BUSINESS COUNCIL

Sunshine Act; Notice of Public Meeting

In accordance with the Women's Business Ownership Act, Public Law 106-554 as amended, the National Women's Business Council (NWBC) would like to announce a forthcoming Council meeting. The meeting will introduce the National Women's Business Council's agenda and action items for fiscal year 2003 included by not limited to procurement, access to capital, access to training and technical assistance, access to markets and affordable health care.

DATES: January 29, 2004.

ADDRESSES: The Senate Committee on Small Business and Entrepreneurship Hearing Room, 428A Russell Senate Office Building, Washington, DC.

Time: 10 a.m. to 3 p.m.

Status: Open to the public. Attendance by RSVP only.

FOR FURTHER INFORMATION CONTACT: National Women's Business Council, (202) 205-6695—Katherine Stanley.

Anyone wishing to attend and make an oral presentation at the meeting must contact Katherine Stanley, no later than Monday, January 26, 2004 at (202) 205-6695.

Matthew Becker,
Director of Advisory Councils.

[FR Doc. 04-1394 Filed 1-16-04; 3:25 pm]

BILLING CODE 6820-AB-P